DEPARTMENT OF TRANSPORTATION

Federal Aviation Administration

14 CFR Part 39

[Docket No. FAA-2010-1164; Directorate Identifier 2010-NM-057-AD; Amendment 39-17135; AD 2012-15-06]

RIN 2120-AA64

Airworthiness Directives; Gulfstream Aerospace LP (Type Certificate Previously Held by Israel Aircraft Industries, Ltd.) Airplanes

AGENCY: Federal Aviation Administration (FAA), Department of Transportation (DOT).

ACTION: Final rule.

SUMMARY: We are adopting a new airworthiness directive (AD) for certain Gulfstream Aerospace LP (Type Certificate previously held by Israel Aircraft Industries, Ltd.) Model Astra SPX, 1125 Westwind Astra, and Gulfstream 100 airplanes. This AD was prompted by a report indicating that sponge rubber padding was found between wheel well fuel lines and electrical harnesses. This AD requires inspecting for the presence of sponge rubber padding and for proper separation of the fuel lines and electrical harnesses in the wheel well area, and corrective actions if necessary. We are issuing this AD to detect and correct corrosion or chafing of the fuel lines, which could result in fuel leakage and possible fire in the wheel well area.

DATES: This AD becomes effective September 4, 2012.

The Director of the Federal Register approved the incorporation by reference of a certain publication listed in this AD as of September 4, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Groves, Aerospace Engineer, International Branch, ANM-116, Transport Airplane Directorate, FAA, 1601 Lind Avenue SW., Renton, Washington 98057-3356; telephone (425) 227-1503; fax (425) 227-1149.

SUPPLEMENTARY INFORMATION:

Discussion

We issued a notice of proposed rulemaking (NPRM) to amend 14 CFR part 39 to include an AD that would apply to the specified products. That NPRM was published in the Federal Register on December 8, 2010 (75 FR 76317). That NPRM proposed to correct an unsafe condition for the specified products. The MCAI states:

Sponge rubber padding used to provide separation between wheel well fuel lines and electrical harnesses was discovered during fleet maintenance. Use of this type of padding for this purpose is not approved as it is liable to cause corrosion of the fuel lines. Unless steps are taken to remove this padding and install approved separation means, fuel lines may be damaged by corrosion and/or chafing resulting in an unsafe condition due to fuel leakage[, which could result in a fire] in the wheel well area.

Corrective actions include installing loop clamps to correct improper separation and removing sponge rubber padding, and repair or replacement of any corroded or chafed fuel lines found after sponge rubber padding removal. You may obtain further information by examining the MCAI in the AD docket.

Comments

We gave the public the opportunity to participate in developing this AD. We have considered the comments received.

Requests To Include Additional Inspection Area

Gulfstream Aerospace Corporation (Gulfstream) requested that the inspection area be expanded to include tube assemblies outside of the wheel well area that have also been found to have sponge rubber padding and corrosion beneath the padding. Gulfstream stated that the padding with corrosion beneath has been found on four tube assemblies outside of the wheel well area specified in the NPRM (75 FR 76317, December 8, 2010) and Gulfstream Service Bulletin 100-28-297, dated January 21, 2010. These four tube assemblies are part of, or an extension of, the tube assemblies identified by part number in that service bulletin, and terminate in the wing root area.

John R. Dunn, a private citizen, stated that, upon further investigation after discovering instances of sponge rubber in the left wheel well, foam (sponge rubber padding) was found wrapped around tubes in the forward wing root areas of two airplanes along with wire harnesses alongside the affected tubes. Corrosion was also found on those tubes. John R. Dunn stated that neither of the affected wing root areas are mentioned in Gulfstream Service Bulletin 100-28-297, dated January 21, 2010.

We partially agree. We agree to investigate reports of sponge rubber padding use, and any subsequent corrosion, that occurs outside of the wheel well area specified in Gulfstream Service Bulletin 100-28-297, dated January 21, 2010. Depending on the results of the investigation, we will work with the airplane manufacturer to develop appropriate service information and might consider additional rulemaking to address these areas. We do not agree to change this AD to include the additional areas outside of the wheel well areas, since that would expand the scope of this AD and therefore require additional public review. We do not yet have sufficient information to justify delaying this AD to include those tubes. We have not changed the AD in this regard.

Request To Revise Wording in Paragraph (g) of NPRM (75 FR 76317, December 8, 2010)

Gulfstream requested that the NPRM (75 FR 76317, December 8, 2010) be revised to state that “all” tubes in the wheel well areas be inspected for the sponge rubber padding and corrosion conditions. Gulfstream stated that it has received reports where tube part numbers other than those called out in the service information have sponge rubber padding.

We disagree to revise the wording in paragraph (g) of this AD to add the word “all.” Gulfstream Service Bulletin 100-28-297, dated January 21, 2010, already specifies a detailed inspection in the wheel well area for the presence of sponge rubber padding without specifying part numbers. As noted in paragraph 4.A. of the Accomplishment Instructions of that service bulletin, this inspection is not limited to the fuel line part numbers identified in that service bulletin. The Accomplishment Instructions of that service bulletin note that if fuel lines other than those with part numbers identified in that service bulletin are found to have sponge rubber padding, then the padding must be removed and those affected tubes must also be inspected for corrosion. We have not revised the AD in this regard.

Conclusion

We reviewed the available data, including the comments received, and determined that air safety and the public interest require adopting the AD as proposed, except for minor editorial changes. We have determined that these minor changes:

• Are consistent with the intent that was proposed in the NPRM (75 FR 76317, December 8, 2010) for correcting the unsafe condition; and

• Do not add any additional burden upon the public than was already proposed in the NPRM (75 FR 76317, December 8, 2010).

Differences Between This AD and the MCAI or Service Information

Where Gulfstream Service Bulletin 100-28-297, dated January 21, 2010, specifies to submit a photo of any sponge rubber padding that is found to the manufacturer, this AD does not require that action.

Gulfstream Service Bulletin 100-28-297, dated January 21, 2010, instructs operators to contact Gulfstream if technical assistance is required. However, any deviation from the instructions provided in that service bulletin and mandated by this AD must be approved as an alternative method of compliance (AMOC) under the provisions of paragraph (h)(1) of this AD.

Costs of Compliance

We estimate that this AD will affect 130 products of U.S. registry. We also estimate that it will take about 25 work-hours per product to comply with the basic requirements of this AD. The average labor rate is $85 per work-hour. Required parts will cost about $100 per product. Where the service information lists required parts costs that are covered under warranty, we have assumed that there will be no charge for these parts. As we do not control warranty coverage for affected parties, some parties may incur costs higher than estimated here. Based on these figures, we estimate the cost of this AD to the U.S. operators to be $289,250, or $2,225 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (75 FR 76317, December 8, 2010), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-06 Gulfstream Aerospace LP (Type Certificate Previously Held by Israel Aircraft Industries, Ltd.): Amendment 39-17135. Docket No. FAA-2010-1164; Directorate Identifier 2010-NM-057-AD.

(a) Effective Date

This airworthiness directive (AD) becomes effective September 4, 2012.

(b) Affected ADs

None.

(c) Applicability

This AD applies to Gulfstream Aerospace LP (Type Certificate previously held by Israel Aircraft Industries, Ltd.) Model Astra SPX, 1125 Westwind Astra, and Gulfstream 100 airplanes, serial numbers 002 through 158 inclusive, certificated in any category.

(d) Subject

Air Transport Association (ATA) of America Code 28: Fuel.

(e) Reason

This AD was prompted by a report indicating that sponge rubber padding was found between wheel well fuel lines and electrical harnesses. We are issuing this AD to detect and correct corrosion or chafing of the fuel lines, which could result in fuel leakage and possible fire in the wheel well area.

(f) Compliance

You are responsible for having the actions required by this AD performed within the compliance times specified, unless the actions have already been done.

(g) Actions

Within 24 months after the effective date of this AD, inspect for the presence of sponge rubber padding on the fuel lines in the wheel well area and inspect the fuel lines and electrical harnesses in the wheel well area for proper separation, in accordance with the Accomplishment Instructions of Gulfstream Service Bulletin 100-28-297, dated January 21, 2010.

(1) If any sponge rubber padding is found, before further flight, remove all sponge rubber padding from the fuel lines, inspect the fuel lines that were covered with the rubber padding for any corrosion and repair or replace as applicable any corroded or chafed fuel lines, in accordance with the Accomplishment Instructions of Gulfstream Service Bulletin 100-28-297, dated January 21, 2010.

(2) If any fuel lines and electrical harnesses are found to not have proper separation, before further flight, install loop clamps in accordance with the Accomplishment Instructions of Gulfstream Service Bulletin 100-28-297, dated January 21, 2010.

(3) If proper separation is found, and no sponge rubber padding is found, no further action is required by this paragraph.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Groves, Aerospace Engineer, International Branch, ANM-116, Transport Airplane Directorate, FAA, 1601 Lind Avenue SW., Renton, Washington 98057-3356; telephone (425) 227-1503; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI Israeli Airworthiness Directive 28-10-02-01, dated February 22, 2010; and Gulfstream Service Bulletin 100-28-297, dated January 21, 2010; for related information.

(j) Material Incorporated by Reference

(1) You must use the following service information to do the actions required by this AD, unless the AD specifies otherwise. The Director of the Federal Register approved the incorporation by reference (IBR) of the following service information under 5 U.S.C. 552(a) and 1 CFR part:

(i) Gulfstream Service Bulletin 100-28-297, dated January 21, 2010.

(ii) Reserved.

(2) For service information identified in this AD, contact Gulfstream Aerospace Corporation, P.O. Box 2206, Mail Station D-25, Savannah, Georgia 31402-2206; telephone 800-810-4853; fax 912-965-3520; email pubs@gulfstream.com; Internet http://www.gulfstream.com/product_support/technical_pubs/pubs/index.htm.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on July 17, 2012.
Michael Kaszycki,
Acting Manager, Transport Airplane Directorate, Aircraft Certification Service.

[FR Doc. 2012-18153 Filed 7-27-12; 8:45 am]

BILLING CODE 4910-13-P